DEPARTMENT OF HOUSING AND URBAN DEVELOPMENT

[Docket No. FR-5369-N-01]

Notice of Availability: HUD Real Estate Settlement Procedures Act (RESPA) Handbook

AGENCY: Office of the Assistant Secretary for Housing—Federal Housing Commissioner, HUD.

ACTION: Notice.

SUMMARY: Through today's Federal Register notice, HUD announces the availability on its Web site of the revised special information booklet (Booklet) pursuant to the Real Estate Settlement Procedures Act (RESPA) requirement in 12 U.S.C. § 2604. The Real Estate Settlement Procedures Act of 1974 (RESPA) (12 U.S.C. 2601-2617), establishes the process for disclosing settlement costs in the financing or refinancing of a home, and helps protect consumers from unethical practices by settlement service providers during the home-buying and loan process. Under RESPA, lenders and mortgage brokers are required to give borrowers this Booklet within three days of the borrower's applying for a mortgage loan. The Booklet provides information designed to assist individuals seeking to buy a home to become familiar with the home-buying process. As a result, the Booklet provides information regarding the purchase contract, how to use a Good Faith Estimate to shop for the best loan, required settlement services to close the loan, and the HUD-1 Settlement Statement. It also provides information regarding interest rates, points, balloon payments, prepayment penalties and how they can affect mortgage payments. The Booklet also discusses how to resolve loan servicing problems that will help avoid actions that could lead to foreclosure.

The Booklet is currently available on the HUD Web site at: http://www.hud.gov/utilities/intercept.cfm?http://portal.hud.gov/portal/page/portal/HUD/documents/Settlement%20Booklet%20December%2015%20REVISED.pdf. It is also currently the top link at http://www.hud.gov/respa.

FOR FURTHER INFORMATION CONTACT: The Office of RESPA and Interstate Land Sales, U.S. Department of Housing and Urban Development, 451 Seventh Street, SW., Room 9158, Washington, DC 20410; telephone number 202-708-0502 (this is not a toll-free number). Persons with hearing or speech impairments may access this number via TTY by calling the toll-free Federal Information Relay Service at 800-877-8339.

Dated: December 29, 2009.
David H. Stevens,
Assistant Secretary for Housing—Federal Housing Commissioner.

[FR Doc. E9-31304 Filed 1-4-10; 8:45 am]

BILLING CODE 4210-67-P